DEPARTMENT OF DEFENSE

Department of the Navy

[USN-2007-0014]

Privacy Act of 1974; System of Records

AGENCY: Department of the Navy, DoD.

ACTION: Notice to Alter a System of Records.

SUMMARY: The Department of the Navy proposes to alter a system of records notice in its existing inventory of records systems subject to the Privacy Act of 1974 (5 U.S.C. 552a), as amended.

DATES: This proposed action will be effective without further notice on March 29, 2007 unless comments are received which result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-325-6545.

SUPPLEMENTARY INFORMATION: The Department of the Navy's systems of records notices subject to the Privacy Act of 1974 (5 U.S.C. 552a), as amended, have been published in the Federal Register and are available from the address above.

The proposed system reports, as required by 5 U.S.C. 552a(r), of the Privacy Act of 1974, as amended, were submitted on (February 16, 2007, to the House Committee on Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: February 20, 2007.
C.R. Choate,
Alternate OSD Federal Register Liaison Officer, Department of Defense.

N01531-1

System name:

USNA Applicants, Candidates, and Midshipmen Records.

Changes:

* * * * *

Categories of records in the system:

Delete entry and replace with “Admissions records contain pre-candidate questionnaires concerning educational background, personal data, physical data, extracurricular activities, and employment; candidate fitness assessment; personal statements; transcripts from previously attended academic institutions; admission tests results; recommendation letters from school officials and others; extracurricular activities reports; reports of officer interviews; records of prior military service; and, Privacy Act disclosure forms. Nomination information is entered electronically by congressional offices. This information which includes the names of the persons whom each Congressman nominated is matched to candidate data within the Admissions Information System (AIS) database. The applications for the following nomination categories are accepted via paper application, entered into AIS, and saved: President, Children of Deceased and Disabled Veterans, Vice-President, Children of Medal of Honor Recipients, Secretary of the Navy, and Naval Reserve Officers Training Corps Units with Distinction, and International Applicants.

Performance jackets and academic records include candidate fitness assessment, performance grades, personal history, autobiography, record of emergency data, aptitude history, review boards records, medical excuse from duty forms, conduct records and grades, counseling and guidance development tests, counseling and guidance interview sheets and data forms, academic grades, class rankings, letters of commendation, training records, Oath of Office, Agreement to Serve, Privacy Act disclosure forms and other such records and information relative to the midshipmen.

Midshipmen separation files; midshipmen military justice files; midshipmen Judge Advocate General Manual (JAGMAN) investigations; midshipmen personnel claim files; and midshipmen honor records.”

Authority for maintenance of the system:

Delete entry and replace with “10 U.S.C. 5013, Secretary of the Navy; 10 U.S.C. 6956, 6957, 6958, 6962, and 6963; and E.O. 9397 (SSN).”

Purpose(s):

At end of entry, add the following: “To the USNA Blue and Gold Officers (BGOs) for the purpose of providing counseling to USNA candidates and prospective USNA candidates about the USNA admissions process.

To the Naval Academy Graduate Education Office for the limited purpose of selecting and assisting midshipmen in the application process for graduate education.”

* * * * *

Retention and disposal:

In paragraph 3, delete “Admission records of unsuccessful candidates are properly destroyed after one year.” And replace with “Electronic Admissions information is available via Automated Information System (AIS) for the class of 1999 to present.”

* * * * *

N01531-1

System name:

USNA Applicants, Candidates, and Midshipmen Records

System location:

U.S. Naval Academy, 117 Decatur Road, Annapolis, MD 21402-5017.

Categories of individuals covered by the system:

Applicants and candidates for admission and Naval Academy Midshipmen.

Categories of records in the system:

Admissions records contain pre-candidate questionnaires concerning educational background, personal data, physical data, extracurricular activities, and employment; candidate fitness assessment; personal statements; transcripts from previously attended academic institutions; admission tests results; recommendation letters from school officials and others; extracurricular activities reports; reports of officer interviews; records of prior military service; and, Privacy Act disclosure forms. Nomination information is entered electronically by congressional offices. This information which includes the names of the persons whom each Congressman nominated is matched to candidate data within the Admissions Information System (AIS) database. The applications for the following nomination categories are accepted via paper application, entered into AIS, and saved: President, Children of Deceased and Disabled Veterans, Vice-President, Children of Medal of Honor Recipients, Secretary of the Navy, and Naval Reserve Officers Training Corps Units with Distinction, and International Applicants.

Performance jackets and academic records include candidate fitness assessment, performance grades, personal history, autobiography, record of emergency data, aptitude history, review boards records, medical excuse from duty forms, conduct records and grades, counseling and guidance development tests, counseling and guidance interview sheets and data forms, academic grades, class rankings, letters of commendation, training records, Oath of Office, Agreement to Serve, Privacy Act disclosure forms and other such records and information relative to the midshipmen.

Midshipmen separation files; midshipmen military justice files; midshipmen Judge Advocate General Manual (JAGMAN) investigations; midshipmen personnel claim files; and midshipmen honor records.

Authority for maintenance of the system:

10 U.S.C. 5013, Secretary of the Navy; 10 U.S.C. 6956, 6957, 6958, 6962, and 6963; and E.O. 9397 (SSN).

Purpose(s):

To establish an audit trail of files which contains information on individuals as they progress from the application stage, through the admissions process, to disenrollment or graduation from the Naval Academy. Applicant's files contain information which is used to evaluate and to determine competitive standing and eligibility for appointments to the Naval Academy. Successful applicants become candidates whose files contain information to evaluate further each candidate's eligibility. Candidates' files are also used to identify candidates' profiles for initiation of formal officer accession programs in conjunction with the Naval Academy admission process. Successful candidates who accept appointments become midshipmen. Midshipmen records contain personal, academic, and professional background information and are used for the management, supervision, administration, counseling, and discipline of midshipmen. To the USNA Blue and Gold Officers (BGOs) for the purpose of providing counseling to USNA candidates and prospective USNA candidates about the USNA admissions process. To the Naval Academy Graduate Education Office for the limited purpose of selecting and assisting midshipmen in the application process for graduate education.

Routine uses of records maintained in the system, including categories of users and the purposes of such uses:

In addition to those disclosures generally permitted under 5 U.S.C. 552a (b) of the Privacy Act, these records or information contained therein may specifically be disclosed outside the DoD as a routine use pursuant to 5 U.S.C. 552a(b)(3) as follows:

Parents and legal guardians of midshipmen for the limited purpose of counseling midshipmen who encounter academic, performance and/or disciplinary difficulties, as well as health and welfare issues.

The United States Naval Institute for the limited purpose of notifying midshipmen and their parents about benefits and opportunities provided by the United States Naval Institute.

The Naval Academy Athletic Association for the limited purpose of promoting and funding the Naval Academy Intercollegiate Athletic Program and for the purpose of supporting its activities related to the mission of the Naval Academy.

The United States Naval Academy Foundation for the limited purpose of sponsoring midshipmen candidates who were not admitted in previous years.

The United States Naval Academy Alumni Association for the limited purpose of supporting its activities related to the mission of the Naval Academy.

The Contract Tailor Shop for the limited purpose of scheduling appointments as required for uniform fittings.

The “Blanket Routine Uses” that appear at the beginning of the Navy's compilation of systems of records notices apply to this system.

Policies and practices for storing, retrieving, accessing, retaining, and disposing of records in the system:

Storage:

All hard copy records are kept in file folders in secure rooms or in locked cabinets.

On-line storage is maintained on the Honeywell DPS8 mainframe in Computer Services, with line networking to VACs and interfacing with microcomputers and dial-up lines. Off-line storage is kept on disks.

Records on magnetic tapes and hard copy data are kept in secured rooms or in locked cabinets for operator access and user pickup. Backup magnetic tapes are kept in a vault.

Retrievability:

Records are kept alphabetically by Company and Class. Records can be retrieved from data base by selection of any data element, i.e., name, address, alpha code, six digit candidate number, or Social Security Number, etc.

Safeguards:

Visitor control. Records are kept in locked cabinets or in secured rooms. Computer records are safeguarded through selective file access, signing of Privacy Act forms, passwords, RAM systems, program passwords, user controls, encoding and port controls. Disk and tape storage is in a secure room. Backup systems on magnetic tapes are secured in fire proof vault in Ward Hall.

Retention and disposal:

On-line computer records are destroyed one year after the midshipman's class graduates or the midshipman is separated.

Performance records are retained by the Performance Officer for two years after the midshipman's class graduates, and then destroyed. Backup systems on magnetic tapes and disks are kept in secure storage and destroyed two years after the midshipman's class graduates. Files relative to midshipmen separated involuntarily, including by qualified resignation, are retained for two years after the midshipman's class graduates, or three years from the date of separation, whichever date is later, and then destroyed.

Official transcripts and records files are kept indefinitely by the Registrar on microfilm, computer files, magnetic tapes, and hard copy. A tape is sent to the National Archives two years after class graduates to be stored as a national disaster recovery measure. Electronic Admissions information is available via AIS for the class of 1999 to present. Electronic Admissions Applications are available via Automated Information System(AIS) for the class of 2009 to present. Counseling and Guidance Research data are kept by the Professional Development Research Coordinator indefinitely. Nomination and appointment files are retained for varying lengths of time.

System manager(s) and address:

Superintendent, U.S. Naval Academy, 121 Blake Road, Annapolis, MD 21402-5000.

Notification procedure:

Individuals seeking to determine whether information about themselves is contained in this system should address written inquiries to the Superintendent, U.S. Naval Academy, 121 Blake Road, Annapolis, MD 21402-5000.

Written requests should contain full name, company, class, and any personal identifier, such as a Social Security Number.

Record access procedures:

Individuals seeking access to information about themselves contained in this system should address written inquiries to the Superintendent, U.S. Naval Academy, 121 Blake Road, Annapolis, MD 21402-5000.

Written requests should contain full name, company, class, and any personal identifier, such as a Social Security Number.

Contesting record procedures:

The Navy's rules for accessing records, and for contesting contents and appealing initial agency determinations are published in Secretary of the Navy Instruction 5211.5; 32 CFR part 701; or may be obtained from the system manager.

Record source categories:

Individuals, midshipman, supervisors, Registrar, instructors, professors, officers, midshipman personal history/performance record, midshipman autobiography, Record of Emergency Data (NAVPERS 601-2), Statement of Personal History (DD Form 398), Aptitude History Record (Form 1610-105), Midshipman Summary Sheet, Certificate of Release or Discharge From Active Duty (DD Form 214), Military Performance Board Results, Letters of Probation, Midshipmen Performance Evaluation Reports (Form 54A), Medical Reports, Clinical Psychologist Reports, Excused Squad Chits (Form 6320/20), Conduct Card (Form 1690/91C), Letters of Commendation, Counseling and Guidance Interview and Data Records, Letters of Congressmen, parents, etc., and copies of replies thereto, transcripts from high school or prior college, Review Board Records, and Record of Disclosure (Privacy Act).

Exemptions claimed for the system:

None.

[FR Doc. E7-3304 Filed 2-26-07; 8:45 am]

BILLING CODE 5001-06-P